NUCLEAR REGULATORY COMMISSION

[Docket Nos. 50-250, 50-251; NRC-2018-0101]

Florida Power & Light Company; Turkey Point Nuclear Generating Unit Nos. 3 and 4

AGENCY: Nuclear Regulatory Commission.

ACTION: Draft supplemental environmental impact statement; request for comment.

SUMMARY: The U.S. Nuclear Regulatory Commission (NRC) is issuing for public comment draft plant-specific Supplement 5, Second Renewal, to the Generic Environmental Impact Statement (GEIS) for License Renewal of Nuclear Plants, NUREG-1437, regarding the subsequent renewal of Facility Operating License Nos. DPR-31 and DPR-41 for an additional 20 years of operation for Turkey Point Nuclear Generating Unit Nos. 3 and 4 (Turkey Point). The Turkey Point facility is located in Miami-Dade County, Florida. Possible alternatives to the proposed action (subsequent license renewal) include no action and reasonable replacement power and cooling water system alternatives.

DATES: Submit comments by May 20, 2019. Comments received after this date will be considered, if it is practical to do so, but the NRC is able to ensure consideration only for comments received on or before this date.

ADDRESSES: You may submit comments by any of the following methods:

• Federal Rulemaking Website: Go to http://www.regulations.gov and search for Docket ID NRC-2018-0101. Address questions about NRC dockets to Jennifer Borges; telephone: 301 287-9127; email: Jennifer.Borges@nrc.gov. For technical questions, contact the individual listed in the FOR FURTHER INFORMATION CONTACT section of this document.

• Mail comments to: Office of Administration, Mail Stop: TWFN-7-A60M, ATTN: Program Management, Announcements and Editing Staff, U.S. Nuclear Regulatory Commission, Washington, DC 20555-0001.

• Email comments to: TurkeyPoint34SLREIS.Resource@nrc.gov

For additional direction on obtaining information and submitting comments, see “Obtaining Information and Submitting Comments” in the SUPPLEMENTARY INFORMATION section of this document.

FOR FURTHER INFORMATION CONTACT: David Drucker, Office of Nuclear Reactor Regulation, U.S. Nuclear Regulatory Commission, Washington, DC 20555-0001; telephone: 301-415-6223; email: David.Drucker@nrc.gov.

SUPPLEMENTARY INFORMATION:

I. Obtaining Information and Submitting Comments

A. Obtaining Information

Please refer to Docket ID NRC-2018-0101 when contacting the NRC about the availability of information regarding this document. You may obtain publicly-available information related to this document by any of the following methods:

• Federal Rulemaking Website: Go to http://www.regulations.gov and search for Docket ID NRC-2018-0101.

• NRC's Agencywide Documents Access and Management System (ADAMS): You may access publicly-available documents online in the ADAMS Public Documents collection at http://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that the document is referenced here. Draft plant-specific Supplement 5, Second Renewal, to the GEIS for License Renewal of Nuclear Plants, NUREG-1437, is available in ADAMS under Accession No. ML19078A330.

• NRC's PDR: You may examine and purchase copies of public documents at the NRC's PDR, Room O1-F21, One White Flint North, 11555 Rockville Pike, Rockville, Maryland 20852.

• Library: A copy of draft plant-specific Supplement 5, Second Renewal, to the GEIS for License Renewal of Nuclear Plants, NUREG-1437, is available at the following locations: Homestead Branch Library, 700 N. Homestead Blvd., Homestead, FL 33033; Naranja Branch Library, 14850 SW 280th St., Homestead, FL 33032; South Dade Regional Library, 10750 SW 211th St., Miami, FL 33189; and Downtown Miami Branch, 101 West Flagler St., Miami, FL 30130.

B. Submitting Comments

Please include Docket ID NRC-2018-0101 in the subject line of your comment submission, in order to ensure that the NRC is able to make your comment submission available to the public in this docket.

The NRC cautions you not to include identifying or contact information in comment submissions that you do not want to be publicly disclosed. The NRC will post all comment submissions at http://www.regulations.gov as well as enter the comment submissions into ADAMS. The NRC does not routinely edit comment submissions to remove identifying or contact information.

If you are requesting or aggregating comments from other persons for submission to the NRC, you should inform those persons not to include identifying or contact information that they do not want to be publicly disclosed in their comment submission. Your request should state that the NRC does not routinely edit comment submissions to remove such information before making the comment submissions available to the public or entering the comment into ADAMS.

II. Discussion

The NRC is issuing for public comment draft plant-specific Supplement 5, Second Renewal, to the GEIS for License Renewal of Nuclear Plants, NUREG-1437, regarding the subsequent renewal of Facility Operating License Nos. DPR-31 and DPR-41 for an additional 20 years of operation for Turkey Point Unit Nos. 3 and 4. Draft plant-specific Supplement 5, Second Renewal, to the GEIS includes the preliminary analysis that evaluates the environmental impacts of the proposed action and alternatives to the proposed action. The NRC's preliminary recommendation is that the adverse environmental impacts of subsequent license renewal for Turkey Point are not so great that preserving the option of subsequent license renewal for energy-planning decisionmakers would be unreasonable.

III. Public Meetings

The NRC staff will hold two public meetings prior to the close of the public comment period to present an overview of the draft plant-specific supplement to the GEIS and to accept public comment on the document. The meetings will be held on May 1, 2019, from 1:00 p.m. to 3:00 p.m. and from 6:00 p.m. to 8:00 p.m. at the City of Homestead City Hall, 100 Civic Court, Homestead, FL 33030. There will be an open house one hour before each meeting for members of the public to meet with NRC staff members and sign in to speak. The meetings will be transcribed and will include: (1) A presentation of the contents of the draft plant-specific supplement to the GEIS and (2) the opportunity for interested government agencies, organizations, and individuals to provide comments on the draft plant-specific supplement to the GEIS. To be considered in the final supplement to the GEIS, comments must be provided either at the transcribed public meetings or submitted in writing by the comment deadline identified above. Persons may pre-register to attend or present oral comments at the meetings by contacting Mr. William Burton, the NRC Project Manager, at 301-415-6332, or by email at William.Burton@nrc.gov no later than Tuesday, April 23, 2019. Members of the public may also register to provide oral comments within 15 minutes before the start of the meetings. Individual oral comments may be limited by the time available, depending on the number of persons who register. If special equipment or accommodations are needed to attend or present information at the public meeting, the need should be brought to Mr. Burton's attention no later than Tuesday, April 23, 2019, to provide the NRC staff adequate notice to determine whether the request can be accommodated.

Dated at Rockville, Maryland, this 1st day of April 2019.
For the Nuclear Regulatory Commission.
Eric R. Oesterle,
Chief, License Renewal Projects Branch, Division of Materials and License Renewal, Office of Nuclear Reactor Regulation.

[FR Doc. 2019-06612 Filed 4-3-19; 8:45 am]

BILLING CODE 7590-01-P